DEPARTMENT OF STATE

[Delegation of Authority No. 394]

Designation of the Department of State Representative to the Administrative Conference of the United States

By virtue of the authority vested in the Secretary of State, including Section 1 of the State Department Basic Authorities Act, as amended (22 U.S.C. 2651a), and 5 U.S.C. 593, and delegated pursuant to Delegation of Authority 198, dated September 16, 1992, and to the extent authorized by law, I hereby designate the Department of State Legal Adviser as the Department of State government representative to the Administrative Conference of the United States.

This delegation of authority may be re-delegated, to the extent authorized by law.

Notwithstanding this delegation of authority, the Secretary, the Deputy Secretary, the Deputy Secretary for Management and Resources, and the Under Secretary for Management may exercise any function or authority delegated by this delegation of authority.

This Delegation of Authority will be published in the Federal Register.

Dated: April 29, 2016.
Patrick F. Kennedy,
Under Secretary of State for Management, Department of State.

[FR Doc. 2016-11274 Filed 5-11-16; 8:45 am]

BILLING CODE 4710-08-P